DEPARTMENT OF STATE

[Public Notice 11219]

30-Day Notice of Proposed Information Collection: Passport Demand Forecasting Survey

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to December 28, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

• Title of Information Collection: Passport Demand Forecasting Survey.

• OMB Control Number: 1405-0177.

• Type of Request: Extension of a Currently Approved Collection.

• Originating Office: Bureau of Consular Affairs, Passport Services Directorate.

• Form Number: SV2012-0006.

• Respondents: A national representative sample of U.S. citizens, nationals, and any other categories of individuals that are entitled to a U.S. passport product.

• Estimated Number of Respondents: 30,000.

• Estimated Number of Responses: 30,000.

• Average Time per Response: 10 minutes.

• Total Estimated Burden Time: 5,000 hours.

• Frequency: Monthly.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Secretary of State is authorized to issue U.S. passports under 22 U.S.C. 211a. The Department of State, Passport Services administers the U.S. passport issuance program and operates passport agencies and application adjudication centers throughout the United States. As part of the Intelligence Reform and Terrorism Prevention Act of 2004, the Western Hemisphere Travel Initiative required the Secretary of Homeland Security and the Secretary of State to implement a plan to require all U.S. citizen and non-citizen nationals to present a passport and/or other sufficient documentation when entering the U.S. from abroad. This resulted in an increase in demand for U.S. passports.

The Passport Demand Forecasting Survey requests information from the general public about the demand for U.S. passports, anticipated travel, and the demographic profile of the respondent. This voluntary survey is conducted on a monthly basis using responses from a randomly selected but nationally representative sample of U.S. nationals ages 18 and older. The information obtained from the survey is used to monitor and project the demand for U.S. passport books and U.S. passport cards. The Passport Demand Forecasting Survey aids the Department of State, Passport Services in making decisions about staffing, resource allocation, and budget planning.

Methodology

The Passport Demand Forecasting Study uses monthly surveys that will gather data from a national representative sample of U.S. nationals. Survey delivery methodologies can include mail, internet/web, telephone, and mix-mode surveys to ensure the CA/PPT reaches the appropriate audience and leverages the best research method to obtain valid responses.

Zachary Parker,
Director.

[FR Doc. 2020-26068 Filed 11-24-20; 8:45 am]

BILLING CODE 4710-06-P